FEDERAL TRADE COMMISSION

16 CFR Part 305

Rule Concerning Disclosures Regarding Energy Consumption and Water Use of Certain Home Appliances and Other Products Required Under the Energy Policy and Conservation Act (“Appliance Labeling Rule”)

AGENCY: Federal Trade Commission.

ACTION: Final rule.

SUMMARY: The Federal Trade Commission (“the Commission”) amends its Appliance Labeling Rule (“the Rule”) by publishing new ranges of comparability to be used on required labels for refrigerator-freezers with automatic defrost with top-mounted freezers with through-the-door ice service (Appendix A7). The Commission also announces that the current (1998) ranges of comparability for all other categories of refrigerators, refrigerator-freezers, and freezers (Appendices A1 through A6, Appendix A8, and Appendices B1 through B3 to the Rule), which were published on December 2, 1998 (63 FR 66428), will remain in effect until further notice.

EFFECTIVE DATE: January 22, 2001.

FOR FURTHER INFORMATION CONTACT: James Mills, Attorney, Division of Enforcement, Federal Trade Commission, Washington, DC 20580 (202-326-3035); <<jmills@ftc.gov>>.

SUPPLEMENTARY INFORMATION: The Appliance Labeling Rule (“Rule”) was issued by the Commission in 1979 (44 FR 66466 (Nov. 19, 1979)) in response to a directive in the Energy Policy and Conservation Act of 1975.¹ The rule covers eight categories of major household appliances: Refrigerators and refrigerator-freezers, freezers, dishwashers, clothes washers, water heaters (this category includes storage-type water heaters, instantaneous water heaters, and heat pump water heaters), room air conditioners, furnaces (this category includes boilers), and central air conditioners (this category includes heat pumps). The Rule also covers pool heaters (59 FR 49556 (Sept. 28, 1994)), and contains requirements that pertain to fluorescent lamp ballasts (54 FR 28031 (July 5, 1989)), certain plumbing products (58 FR 54955 (Oct. 25, 1993)), and certain lighting products (59 FR 25176 (May 13, 1994)).

¹ 42 U.S.C. 6294. The statute also requires the Department of Energy (“DOE”) to develop test procedures that measure how much energy the appliances use, and to determine the representative average cost a consumer pays for the different types of energy available.

The Rule requires manufacturers of all covered appliances and pool heaters to disclose specific energy consumption or efficiency information (derived from the DOE test procedures) at the point of sale in the form of an “EnergyGuide” label and in catalogs. It also requires manufacturers of furnaces, central air conditioners, and heat pumps either to provide fact sheets showing additional cost information, or to be listed in an industry directory showing the cost information for their products. The Rule requires that manufacturers include, on labels and fact sheets, an energy consumption or efficiency figure and a “range of comparability.” This range shows the highest and lowest energy consumption or efficiencies for all comparable appliance models so consumers can compare the energy consumption or efficiency of other models (perhaps competing brands) similar to the labeled model. The Rule requires that manufacturers also include, on labels for some products, a secondary energy usage disclosure in the form of an estimated annual operating cost based on a specified DOE national average cost for the fuel the appliance uses.

Section 305.8(b) of the Rule requires manufacturers, after filing an initial report, to report annually (by specified dates for each product type ²) the estimated annual energy consumption or energy efficiency ratings for the appliances derived from tests performed pursuant to the DOE test procedures. Because manufacturers regularly add new models to their lines, improve existing models, and drop others, the data base from which the ranges of comparability are calculated is constantly changing. Under Section 305.10 of the Rule, to keep the required information on labels consistent with these changes, the Commission publishes new ranges (but not more often than annually) if an analysis of the new information indicates that the upper or lower limits of the ranges have changed by 15% or more. Otherwise, the Commission publishes a statement that the prior ranges remain in effect for the next year.

² Reports for refrigerators, refrigerator-freezers, and freezers are due August 1.

The Commission has analyzed the 2000 submissions of data for refrigerators, refrigerator-freezers, and freezers, and has determined that the upper and lower limits of the ranges for refrigerator-freezers with automatic defrost with top-mounted freezers with through-the-door ice service (Appendix A7) have changed significantly. Therefore, the Commission is publishing new ranges of comparability for those products.

The Commission also has determined that the ranges of comparability for all other categories of refrigerators, refrigerator-freezers, and freezers (Appendices A1 through A6, Appendix A8, and Appendices B1 through B3 to the Rule) have not changed significantly. Therefore, the Commission is announcing that the current (1998) ranges for those products, which were published on December 2, 1998 (63 FR 66428), will remain in effect until further notice.

Today's publication of the new ranges for refrigerator-freezers with automatic defrost with top-mounted freezers with through-the-door ice service also means that, after January 22, 2001, manufacturers of these products must calculate the operating cost figures at the bottom of labels for the products using the 2000 cost for electricity (8.03 cents per kiloWatt-hour). Manufacturers must continue to calculate the operating costs at the bottom of labels for all other refrigerators, refrigerator-freezers, and freezers using the 1998 cost for electricity (8.42 cents per kiloWatt-hour), which was the cost for electricity that was in effect at the time the current (1998) ranges were published.

Regulatory Flexibility Act

The provisions of the Regulatory Flexibility Act relating to a Regulatory Flexibility Act analysis (5 U.S.C. 603-604) are not applicable to this proceeding because the amendments do not impose any new obligations on entities regulated by the Appliance Labeling Rule. Thus, the amendments will not have a “significant economic impact on a substantial number of small entities.” 5 U.S.C. 605. The Commission has concluded, therefore, that a regulatory flexibility analysis is not necessary, and certifies, under Section 605 of the Regulatory Flexibility Act (5 U.S.C. 605(b)), that the amendments announced today will not have a significant economic impact on a substantial number of small entities.

List of Subjects in 16 CFR Part 305

Advertising, Energy conservation, Household appliances, Labeling, Reporting and recordkeeping requirements.

Accordingly, 16 CFR part 305 is amended as follows:

PART 305—RULE CONCERNING DISCLOSURES REGARDING ENERGY CONSUMPTION AND WATER USE OF CERTAIN HOME APPLIANCES AND OTHER PRODUCTS REQUIRED UNDER THE ENERGY POLICY AND CONSERVATION ACT (“APPLIANCE LABELING RULE”)

1. The authority citation for Part 305 continues to read as follows:

Authority: 42 U.S.C. 6294.

2. Appendix A7 to Part 305 is revised to read as follows:

Appendix A7 to Part 305—Refrigerator-Freezers With Automatic Defrost With Top-Mounted Freezer With Through-the-Door Ice Service

Range Information
Manufacturer's rated total refrigerated volume in cubic feet | Range of estimated annual energy consumption (KWh/Yr.): Low | Range of estimated annual energy consumption (KWh/Yr.): High
Less than 10.5 | 502 | 511
10.5 to 12.4 | 544 | 544
12.5 to 14.4 | 544 | 624
14.5 to 16.4 | 642 | 642
16.5 to 18.4 | (*) | (*)
18.5 to 20.4 | (*) | (*)
20.5 to 22.4 | 680 | 840
22.5 to 24.4 | (*) | (*)
24.5 to 26.4 | 905 | 905
26.5 to 28.4 | (*) | (*)
28.5 and over | (*) | (*)
(*) No data submitted for units meeting the Department of Energy's Energy Conservation Standards effective January 1, 1993.

By direction of the Commission.
Benjamin I. Berman,
Acting Secretary.

[FR Doc. 00-27157 Filed 10-20-00; 8:45 am]

BILLING CODE 6750-01-M